DEPARTMENT OF THE INTERIOR

National Park Service

[NPS-WASO-NRNHL-12555; PPWOCRADI0, PCU00RP14.R50000]

National Register of Historic Places; Notification of Pending Nominations and Related Actions

Nominations for the following properties being considered for listing or related actions in the National Register were received by the National Park Service before March 9, 2013. Pursuant to section 60.13 of 36 CFR part 60, written comments are being accepted concerning the significance of the nominated properties under the National Register criteria for evaluation. Comments may be forwarded by United States Postal Service, to the National Register of Historic Places, National Park Service, 1849 C St. NW., MS 2280, Washington, DC 20240; by all other carriers, National Register of Historic Places, National Park Service, 1201 Eye St. NW., 8th floor, Washington, DC 20005; or by fax, 202-371-6447. Written or faxed comments should be submitted by April 18, 2013. Before including your address, phone number, email address, or other personal identifying information in your comment, you should be aware that your entire comment—including your personal identifying information—may be made publicly available at any time. While you can ask us in your comment to withhold your personal identifying information from public review, we cannot guarantee that we will be able to do so.

Dated: March 14, 2013.
J. Paul Loether,
Chief, National Register of Historic Places/National Historic Landmarks Program.

ALABAMA

Shelby County

Downtown Montevallo Historic District, 555-925 Main, 710-745 Middle & 608 Valley Sts., Montevallo, 13000180

CALIFORNIA

Santa Clara County

Hakone Historic District, 21000 Big Basin Way, Saratoga, 13000181

GEORGIA

Floyd County

Howell Grocery, 601 S. Broad, Rome, 13000182

ILLINOIS

Clark County

Marshall Business Historic District, Archer Ave. & area between Plum, S. 5th, Locust & Michigan Aves., Marshall, 13000183

Cook County

Building at 320 West Oakdale Avenue, 320 W. Oakdale Ave., Chicago, 13000184

Walser, Joseph J., House, 42 N. Central Ave., Chicago, 13000185

Kane County

Pure Oil Station, 502 W. State St., Geneva, 13000186

MAINE

Hancock County

Hancock Point School, 644 Point Rd., Hancock, 13000187

Waldo County

Marsh School, 930 Bangor Rd., Prospect, 13000188

York County

Lincoln School, 8 Orchard Rd., Acton, 13000189

MISSOURI

Cole County

Bockrath, Henry and Elizabeth, House, (Southside Munichburg, Missouri MPS) 309 W. Dunkin St., Jefferson City, 13000190

Iron County

Ironton Lodge Hall, 133 N. Main St., Ironton, 13000191

Jackson County

Mount Washington School, (Kansas City, Missouri School District Pre-1970 MPS) 570 S. Evanston Ave., Independence, 13000192

Wholesale District, 701 Broadway & 330 W. 8th St., Kansas City, 13000193

St. Louis Independent City

Walnut Park School, (St. Louis Public Schools of William B. Ittner MPS) 5314 Riverview Blvd., 5814 Thekla Ave., St. Louis (Independent City), 13000194

NEBRASKA

Douglas County

Nottingham Apartments, The, 3304 Burt St., Omaha, 13000195

Omaha Park and Boulevard System, 20 city parks, 4 golf courses & 19 connecting blvds. including Riverview, Hanscom & Fontenelle Parks., & Blvd.s., Omaha, 13000196

Ottawa Block, The, 2401 Farnam St., Omaha, 13000197

Hall County

Lincoln Highway—Grand Island Seedling Mile, (Lincoln Highway in Nebraska MPS) Seedling Mile Rd., Grand Island, 13000198

Kearney County

Bethphage Mission, 1044 23rd Rd., Axtell, 13000199

Platte County

Citizens State Bank, 204 Pine St., Creston, 13000200

NEW JERSEY

Bergen County

World War I Monument, Jct. of Chestnut St., Park, Passaic & Lincoln Aves., Rutherford Borough, 13000201

Morris County

Ledgewood Historic District, Main & Canal Sts., Circle Dr., Emmans & Mountain Rds., Ledgewood, 13000202

Somerset County

Spencer—Hollingsworth House, 1370 Johnston Dr., Watchung, 13000203

NORTH CAROLINA

Durham County

Foster and West Geer Streets Historic District, Bounded by W. Corporation, Madison & Washington Sts., Rigsbee Ave., N&SRR tracks, 724 & 733 Foster St., Durham, 13000204

Forsyth County

Forsyth County Courthouse, 11 W. 3rd St., Winston-Salem, 13000205

Orange County

Pope, Capt. John S., Farm, 6909 Efland-Cedar Grove Rd., Cedar Grove, 13000206

TEXAS

Howard County

Settles Hotel, 200 E. 3rd St., Big Spring, 13000207

WASHINGTON

King County

Calhoun Hotel, 2000 2nd Ave., Seattle, 13000208

Supply Laundry Building, 1265 Republican St., Seattle, 13000209

Union Stables, 2200 Western Ave., Seattle, 13000210

Yakima County

Bumping Lake Resort, 781 Bumping Lake Rd., Naches, 13000211

WYOMING

Sheridan County

Holy Name Catholic School, (Educational Facilities in Wyoming, 1850-1960 MPS) 121 S. Connor St., Sheridan, 13000212

[FR Doc. 2013-07676 Filed 4-2-13; 8:45 am]

BILLING CODE 4312-51-P